GULF COAST ECOSYSTEM RESTORATION COUNCIL

2 CFR Part 5900

[Docket Number: 109092024-1111-04]

Uniform Administrative Requirements, Cost Principles, and Audit Requirements for Federal Awards

AGENCY: Gulf Coast Ecosystem Restoration Council.

ACTION: Final rule.

SUMMARY: The Gulf Coast Ecosystem Restoration Council (Council) publishes this rule to supersede the Council's regulation for Uniform Administrative Requirements, Cost Principles, and Audit Requirements for Federal Awards, in connection with the Office of Management and Budget's (OMB) recent revisions to its guidance on Grants and Agreements.

DATES: This rule is effective October 1, 2024.

FOR FURTHER INFORMATION CONTACT: Joshua Easton at 504-252-7717 or joshua.easton@restorethegulf.gov.

SUPPLEMENTARY INFORMATION: On April 22, 2024, OMB issued a final rule revising its Guidance for Grants and Agreements, henceforth to be known as the OMB Guidance for Federal Financial Assistance, effective October 1, 2024 (89 FR 30046, April 22, 2024). The Council publishes this final rule to adopt OMB's revisions to 2 CFR part 200, except for 2 CFR 200.322(c).

Classification

Paperwork Reduction Act

This rule contains no collections of information subject to the requirements of the Paperwork Reduction Act (44 U.S.C. 3506). Notwithstanding any other provision of law, no person is required to respond to, nor shall any person be subject to a penalty for failure to comply with, a collection of information subject to the Paperwork Reduction Act unless that collection displays a currently valid OMB Control Number.

Regulatory Flexibility Act

Because notice and opportunity for comment are not required pursuant to 5 U.S.C. 553 or any other law, the analytical requirements of the Regulatory Flexibility Act (5 U.S.C. 601 et seq.) are inapplicable. Therefore, a regulatory flexibility analysis is not required and has not been prepared.

List of Subjects in 2 CFR Part 5900

Accounting, Administrative practice and procedure, Education, Grant programs, Grants administration.

For the reasons set forth above, part 5900 of title 2, chapter LIX of the Code of Federal Regulations is amended as follows:

PART 5900—UNIFORM ADMINISTRATIVE REQUIREMENTS, COST PRINCIPLES, AND AUDIT REQUIREMENTS FOR FEDERAL AWARDS

1. The authority citation for part 5900 continues to read as follows:

Authority: 5 U.S.C. 301; 33 U.S.C. 1321(t)(2); 2 CFR part 200.

2. Section 5900.101 is revised to read as follows:

§ 5900.101 Adoption of 2 CFR part 200.

The Gulf Coast Ecosystem Restoration Council adopts the Office of Management and Budget guidance in 2 CFR part 200, as revised effective October 1, 2024, except for 2 CFR 200.322(c) (collectively, OMB guidance). This part gives regulatory effect to the OMB guidance.

Keala Hughes,
Director of External Affairs & Tribal Relations Gulf Coast Ecosystem Restoration Council.

[FR Doc. 2024-20667 Filed 9-13-24; 8:45 am]

BILLING CODE 6560-58-P